DEPARTMENT OF TRANSPORTATION

Federal Highway Administration

[Docket No. FHWA-2007-28797]

Agency Information Collection Activities: Notice of Request for Reinstatement of a Previously Approved Collection for Which Approval Has Expired

AGENCY: Federal Highway Administration (FHWA), DOT.

ACTION: Notice and request for comments.

SUMMARY: The FHWA has forwarded the information collection request described in this notice to the Office of Management and Budget (OMB) for approval of a reinstatement of a previously approved collection for which approval has expired. We published a Federal Register Notice with a 60-day public comment period on this information collection on May 11, 2007. We are required to publish this notice in the Federal Register by the Paperwork Reduction Act of 1995.

DATES: Please submit comments by August 29, 2007.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-28797.

FOR FURTHER INFORMATION CONTACT: Heather Contrino, 202-366-5060, or Ralph Gillman, 202-366-5042, Office of Highway Policy Information, Federal Highway Administration, Department of Transportation, 1200 New Jersey Avenue, SE., Washington, DC 20590. Office hours are from 8 a.m. to 5 p.m., Monday through Friday, except Federal holidays.

SUPPLEMENTARY INFORMATION: Title: National Household Travel Survey.

OMB Control #: 2125-0545.

Background: The collection of passenger travel data is authorized in Title 23, Section 502, which authorizes the DOT to engage in studies to collect data for planning future highway programs. The 2008 National Household Travel Survey (NHTS) will provide an updated benchmark of travel activity and a measure of the impact of household travel behavior on system performance including safety, accessibility, economic factors, and congestion. This continuity is important in identifying, assessing, and forecasting travel trends. The many changes in travel and the related social patterns point to the need for a 2008 NHTS. Continuing changes in household structure, commuting levels and patterns, the location of households and workplaces, and increases in the mobility of the older population, as well as issues of air quality and traffic congestion, have all resulted in significant changes in travel in recent years. Historically, FHWA has had the responsibility for the administration of the NHTS; however, FHWA coordinates with other agencies within the DOT on information needs and program applications. The Bureau of Transportation Statistics (BTS), National Highway Traffic Safety Administration (NHTSA), and the Federal Transit Administration (FTA) have provided supplemental funding in past NHTS program activities. In addition, several organizations outside DOT rely on the NHTS for transportation information relating to health (Centers for Disease Control), energy consumption (Energy Information Administration), and emergency planning (Department of Homeland Security). The DOT has a continuing need for current and improved data to determine the nature and extent of present travel needs and to plan for meeting the nation's travel needs of the future. Specifically, data is needed to:

• Examine the availability and use of transportation to various population groups, including those whose mobility has historically been lower than that of the general population, such as the elderly, low-income, people of color, and new immigrants;

• Identify factors affecting the use of private vehicles and other means of transportation as they relate to trip purposes including travel to work, school, shopping, medical care, other personal business, social and recreational travel;

• Forecast trends in highway transportation in light of projected demographic changes;

• Obtain the public's response to changes in transportation systems and services;

• Evaluate factors relating to the safety of the surface transportation system;

• Provide data for the evaluation of the impacts of various policy initiatives; and

• Provide cost-effective information that supports transportation planning and decision making by Federal, State, and local governments.

The DOT uses the data to analyze the amount and nature of household travel, the relationship between socioeconomic characteristics and travel patterns, and trends in passenger travel. Because demographic information is collected on each person and each household surveyed in the NHTS, the dataset is excellent for describing travel behavior of population groups. The transportation community has seen the influence of changes in travel behavior on the amount and type of travel demand, including the increasing participation of women in the workforce, trip chaining for other purposes as part of the work journey, an increase in single-occupant vehicles, increased development of the outer suburbs and exurbs, and changes in household structure. NHTS is also critical in assessing emerging travel roles of older populations and how this is changing over time, as the older cohort is more and more composed of those who have grown up driving. Understanding household travel today means understanding the complexity and variety of travel needs under these changing conditions. As our society addresses air quality and congestion issues, it is vital that the various trends be understood along with their implications for the different segments of the population.

Respondents: Approximately 25,000 households will complete the survey. The survey households will be selected using random digit dialing (RDD). The NHTS is a two-stage study. In the first stage, households are contacted via computer assisted telephone interviewing (CATI) to collect basic information about the household and its vehicles. During this initial contact, households are recruited to participate in the diary phase (second stage of the study). Each household is assigned a specific travel day and asked to record details about each trip taken on that day. The stage two trip information is obtained via computer assisted telephone interviewing (CATI).

Frequency: The NHTS has been conducted by the DOT every 5-7 years since 1969. The 2008 NHTS will be conducted during calendar year 2008.

Estimated Average Burden per Response: The estimated burden per household averages 68 minutes, which includes interviewing an average of 2.5 persons per household. The burden per person averages 20 minutes for the interview and another 7 minutes for keeping the diary.

Estimated Total Annual Burden Hours: The estimated total annual burden hours are 28,333.

Electronic Access: Internet users may access all comments received by the U.S. DOT Dockets, by using the universal resource locator (URL): http://dms.dot.gov, 24 hours each day, 365 days each year. Please follow the instructions online for more information and help.

Authority: The Paperwork Reduction Act of 1995; 44 U.S.C. Chapter 35, as amended; and 49 CFR 1.48.

Issued on: July 23, 2007.
James R. Kabel,
Chief, Management Programs and Analysis Division.

[FR Doc. E7-14643 Filed 7-27-07; 8:45 am]

BILLING CODE 4910-22-P